DEPARTMENT OF AGRICULTURE

Office of the Secretary

Notice of Proposed Revision to the Privacy Act System of Records

AGENCY: Office of the Secretary, USDA.

ACTION: Notice of proposed revision to the Privacy Act System of Records.

SUMMARY: In accordance with the Privacy Act of 1974, as amended, the U.S. Department of Agriculture (USDA), Office of Inspector General (OIG) is proposing a revision to its system of records, by creating the Office of Audit's Research Aggregated Data Analysis Repository (“RADAR”), USDA/OIG-8. RADAR will house USDA data collected by OIG in order to detect fraud, waste, and abuse by utilizing software to match, merge, and analyze the data. USDA invites public comment on this revision of its records system.

DATES: Effective Date: This notice will be adopted without further publication in the Federal Register on May 4, 2009 unless modified by a subsequent notice to incorporate comments received from the public. Comments must be received by the contact person listed below on or before April 6, 2009.

FOR FURTHER INFORMATION CONTACT: Mr. David R. Gray, Counsel to the Inspector General, Office of Inspector General, U.S. Department of Agriculture, 1400 Independence Avenue, SW., Room 441-E, Washington, DC 20250-2308: (202) 720-9110, Facsimile: (202) 690-1528, e-mail: drgray@oig.usda.gov.

SUPPLEMENTARY INFORMATION: In accordance with the Privacy Act, 5 U.S.C. 552a(e)(11), USDA OIG proposes to revise its system of records, by adding a new Privacy Act system of records, USDA/OIG-8. The full system of records was last published in the Federal Register on pages 61262-61266, 62 FR 61262, et seq., November 17, 1997; and was last amended on pages 21389-21391, 70 FR 21389, et seq., April 26, 2005; and on pages 43398-43400, 73 FR 43398, et seq., July 25, 2008.

OIG proposes to add a new system of records by adding USDA/OIG-8, Office of Audit's Research Aggregated Data Analysis Repository (“RADAR”). The RADAR system will contain information from other USDA systems of records, and OIG has limited its usage to OIG employees on a need-to-know basis.

All other aspects of OIG's system of records remain unchanged and are as published. A “Report on New System,” required by 5 U.S.C. 552a(r), as implemented by Office of Management and Budget Circular A-130, was sent to the Chairman, Committee on Homeland Security and Governmental Affairs, United States Senate; the Chairman, Committee on Oversight and Governmental Reform, U.S. House of Representatives; and the Administrator, Office of Information and Regulatory Affairs, OMB.

Dated: February 25, 2009.
Thomas J. Vilsack,
Secretary.

USDA/OIG-8

System Name:

Office of Audit's Research Aggregated Data Analysis Repository (“RADAR”) System, USDA/OIG.

Security Classification: None.

System Location:

In the headquarters offices of the U.S. Department of Agriculture (USDA), Office of Inspector General (OIG), Jamie L. Whitten Federal Building, 1400 Independence Avenue, SW., Washington, DC 20250.

Categories of Individuals Covered by the System:

Individuals who participate in programs funded, monitored, and administered by USDA. Other individuals who are connected with the individuals, organizations, or firms who participate in programs funded, monitored, and administered by USDA, including the names of the subjects of OIG audits and investigations; the counties, cities, and States in which the subjects were located or had an interest in a USDA program.

Categories of Records in the System:

RADAR will house USDA data in order to detect fraud, waste, and abuse by utilizing software to match, merge, and analyze the data.

Authority for Maintenance of the System:

Inspector General Act of 1978, 5 U.S.C. app.; 5 U.S.C. 301

Routine uses of records maintained in the system, including categories of users and the purposes of such uses:

(1) A record from the system of records which indicates either by itself or in combination with other information, a violation or potential violation of a contract or of law, whether civil, criminal, or regulatory, or which otherwise reflects on the qualifications or fitness of a licensed (or seeking to be licensed) individual, may be disclosed to a Federal, State, local, foreign, or self-regulatory agency (including but not limited to organizations such as professional associations or licensing boards), or other public authority that investigates or prosecutes or assists in such investigation, prosecution, enforcement, implementation, or issuance of the statute, rule, regulation, order, or license.

(2) A record from the system of records may be disclosed to a Federal, State, local, or foreign agency, other public authority, consumer reporting agency, or professional organization maintaining civil, criminal, or other relevant enforcement or other pertinent records, such as current licenses, in order to obtain information relevant to an OIG decision concerning employee retention or other personnel action, issuance of a security clearance, letting of a contract or other procurement action, issuance of a benefit, establishment of a claim, collection of a delinquent debt, or initiation of an administrative, civil, or criminal action.

(3) A record from the system of records may be disclosed to a Federal, State, local, foreign, or self-regulatory agency (including but not limited to organizations such as professional associations or licensing boards), or other public authority, to the extent the information is relevant and necessary to the requestor's hiring or retention of an individual or any other personnel action, issuance or revocation of a security clearance, license, grant, or other benefit, establishment of a claim, letting of a contract, reporting of an investigation of an individual, for purposes of a suspension or debarment action, or the initiation of administrative, civil, or criminal action.

(4) A record from the system of records may be disclosed to any source—private or public—to the extent necessary to secure from such source information relevant to a legitimate OIG investigation, audit, or other inquiry.

(5) A record from the system of records may be disclosed to the Department of Justice in the course of litigation when the use of such records by the Department of Justice is deemed relevant and necessary to the litigation and may be disclosed in a proceeding before a court, adjudicative body, or administrative tribunal, or in the course of civil discovery, litigation, or settlement negotiations, when a party to a legal action or an entity or individual having an interest in the litigation includes any of the following:

(a) The OIG or any component thereof;

(b) Any employee of the OIG in his or her official capacity;

(c) Any employee of the OIG in his or her individual capacity where the Department of Justice has agreed to represent the employee; or

(d) The United States, where the OIG determines that litigation is likely to affect USDA or any of its components.

(6) A record from the system of records may be disclosed to a Member of Congress from the record of an individual in response to an inquiry from the Member of Congress made at the request of that individual. In such cases however, the Member's right to a record is no greater than that of the individual.

(7) A record from the system of records may be disclosed to the Department of Justice for the purpose of obtaining its advice on an OIG audit, investigation, or other inquiry, including Freedom of Information or Privacy Act matters.

(8) A record from the system of records may be disclosed to the Office of Management and Budget for the purpose of obtaining its advice regarding OIG obligations under the Privacy Act or in connection with the review of private relief legislation.

(9) A record from the system of records may be disclosed to a private firm with which OIG contemplates it will contract or with which it has contracted for the purpose of performing any functions or analyses that facilitate or are relevant to an OIG investigation, audit, inspection, or other inquiry. Such contractor or private firm shall be required to maintain Privacy Act safeguards with respect to such information.

(10) A record from the system of records may be disclosed in response to a subpoena issued by a Federal agency having the power to subpoena records of other Federal agencies if the OIG determines that: (a) The records are both relevant and necessary to the proceeding, and (b) such release is compatible with the purpose for which the records were collected.

(11) A record from the system of records may be disclosed to a grand jury agent pursuant either to a Federal or State grand jury subpoena, or to a prosecution request that such record be released for the purpose of its introduction to a grand jury, provided that the grand jury channels its request through the cognizant U.S. Attorney, that the U.S. Attorney has been delegated the authority to make such requests by the Attorney General, and that the U.S. Attorney actually signs the letter specifying both the information sought and the law enforcement purpose served. In the case of a State grand jury subpoena, the State equivalent of the U.S. Attorney and Attorney General shall be substituted.

(12) A record from the system of records may be disclosed, as a routine use, to a Federal, State, local, or foreign agency, or other public authority, for use in computer matching programs to prevent and detect fraud and abuse in benefit programs administered by any agency, to support civil and criminal law enforcement activities of any agency and its components, and to collect debts and overpayments owed to any agency and its components.

(13) Relevant information from a system of records may be disclosed to the news media and general public where there exists a legitimate public interest, e.g., to assist in the location of fugitives, to provide notification of arrests, or where necessary for protection from imminent threat of life or property.

(14) A record may be disclosed to any official charged with the responsibility to conduct qualitative assessment reviews or peer reviews of internal safeguards and management procedures employed in investigative operations. This disclosure category includes members of the President's Council on Integrity and Efficiency and officials and administrative staff within their investigative chain of command, as well as authorized officials of the Department of Justice and the Federal Bureau of Investigation.

(15) In the event that these records respond to an audit, investigation or review, which is conducted pursuant to an authorizing law, rule or regulation, and in particular those conducted at the request of the President's Council on Integrity and Efficiency (“PCIE”) pursuant to Executive Order 12993, the records may be disclosed to the PCIE and other Federal agencies, as necessary.

(16) To appropriate agencies, entities, and persons when (1) OIG suspects or has confirmed that the security or confidentiality of information in the system of records has been compromised; (2) USDA has determined that as a result of the suspected or confirmed compromise there is a risk of harm to economic or property interests, identity theft or fraud, or harm to the security or integrity of this system or other systems or programs (whether maintained by USDA or another agency or entity) that rely upon the compromised information; and (3) the disclosure made to such agencies, entities, and persons is reasonably necessary to assist in connection with USDA's efforts to respond to the suspected or confirmed compromise and prevent, minimize, or remedy such harm.

Storage:

The RADAR System consists of computerized and paper records.

Retrievability:

The records are retrieved by names, addresses, social security numbers, and tax identification numbers of USDA program participants or by case numbers.

Safeguards:

Computerized records are maintained in a secure, password protected computer system. The computer server is maintained in a secure, access-controlled area within an access-controlled building.

Paper records are kept in limited access areas during duty hours and in locked offices during non-duty hours.

Retention and Disposal:

Records are retained and disposed of in accordance with USDA/OIG Records Control Schedules approved by the National Archives and Records Administration.

System Manager(s) and Address:

Assistant Inspector General for Audit, Office of Inspector General, U.S. Department of Agriculture, 1400 Independence Avenue, SW., Washington, DC 20250.

Record Access Procedures:

To request access to information in this system, write to the Assistant Inspector General for Audit, Office of Inspector General, U.S. Department of Agriculture, 1400 Independence Avenue, SW., Washington, DC 20250.

Contesting Records Procedure:

An individual may contest information in this system which pertains to him/her by submitting a written request to the Assistant Inspector General for Audit, Office of Inspector General, U.S. Department of Agriculture, 1400 Independence Avenue, SW., Washington, DC 20250. This system may contain records originated by USDA agencies and contained in the USDA's other systems of records. Where appropriate, coordination will be effected with the appropriate USDA agency regarding an individual's contesting of records in the relevant system of records.

[FR Doc. E9-4655 Filed 3-4-09; 8:45 am]

BILLING CODE 3410-23-P